DEPARTMENT OF HEALTH AND HUMAN SERVICES

National Institutes of Health

Prospective Grant Of Exclusive License: Prophylactic and/or Therapeutic Vaccines Against HIV and HCV

AGENCY: National Institutes of Health, Public Health Service, DHHS.

ACTION: Notice.

SUMMARY: This is notice in accordance with 15 U.S.C. 209(c)(1) and 37 CFR 404.7(a)(1)(i) that the National Institutes of Health (NIH), Department of Health and Human Services, is contemplating the grant of a limited field of use exclusive worldwide license to practice the inventions embodied in U.S. Patent Application Serial Number 08/375,100, filed January 19, 1995, entitled “Peptomers with Enhanced Immunogenicity” now United States Patent Number 5,750,332 issued May 12, 1998 and U.S. Patent Application Serial Number 07/283,849 filed December 13, 1988, entitled “Synthesis of Chloroacetyl and Bromoacetyl Modified Peptides for the Preparation of Synthetic Peptide Polymers, Conjugated Peptides and Cyclic Peptides' and now U.S. Patent Number 5,066,716 issued on November 18, 1991 to AriaVax, Inc. of Bethesda, Maryland, U.S.A. The United States as represented by the Department of Health and Human Services is an assignee of these patent rights.

DATE: Only written comments and/or applications for a license which are received by NIH on or before February 4, 2002 will be considered.

ADDRESSES: Requests for a copy of these patent applications, inquiries, comments, and other materials relating to the contemplated license should be directed to: Carol A. Salata, Technology Licensing Specialist, Office of Technology Transfer, National Institutes of Health, 6011 Executive Boulevard, Suite 325, Rockville, MD 20852-3804; Telephone: (301) 496-7735 ext 232; Facsimile: (301) 402-0220; E-mail: salatac@od.nih.gov.

SUPPLEMENTARY INFORMATION: The patent application 08/375,100 describes the production of peptide multimers which maintain the conformation of the native proteins from which they are derived which are useful as therapeutic agents or immunogens and patent application 07/283,849 describes a method used to incorporate bromoacetyl and chloroacetyl moieties on amino groups of synthetic peptides. This synthetic method can be used to prepare synthetic peptide polymers, conjugated peptides and cyclic peptides.

The prospective exclusive license will be royalty-bearing and will comply with the terms and conditions of 35 U.S.C. 209 and 37 CFR 404.7. It is anticipated that this license may be limited to the field of use as prophylactic and/or therapeutic vaccines against HIV and HCV. AriaVax, Inc. will use the technology of the inventions named above to develop formulations that will elicit antibodies that block infection. This prospective exclusive license may be granted unless within 60 days from the date of this published notice, NIH receives written evidence and argument that establishes that the grant of the license would not be consistent with the requirements of 35 U.S.C. 209 and 37 CFR 404.7.

Applications for a license filed in response to this notice will be treated as objections to the grant of the contemplated license. Comments and objections submitted in response to this notice will not be made available for public inspection, and, to the extent permitted by law, will not be released under the Freedom of Information Act, 5 U.S.C. 552.

Dated: November 26, 2001.
Jack Spiegel,
Director, Division of Technology Development and Transfer, Office of Technology Transfer.

[FR Doc. 01-29938 Filed 12-3-01; 8:45 am]

BILLING CODE 4140-01-P